DEPARTMENT OF JUSTICE

Notice of Lodging of Proposed Bankruptcy Settlement Agreement Resolving Cost Recovery and Natural Resources Damages Claims Under CERCLA

On April 13, 2021, the Department of Justice and the Bankruptcy Trustee lodged a proposed Settlement Agreement (Settlement Agreement) with the United States Bankruptcy Court for the Western District of Washington, in the matter entitled In re TOC Holdings Co., Case No. 17-11872-CMA.

The proposed Settlement Agreement will resolve claims against Debtor TOC Holdings Co. (TOC) in connection with TOC's liability under the Comprehensive Environmental Response, Compensation, and Liability Act, 42 U.S.C. 9601 et seq. (CERCLA), for releases and threatened releases of hazardous substances at the Portland Harbor Superfund Site in Portland, Oregon (the Site). These claims are further described in a Proof of Claim filed on behalf of the United States Environmental Protection Agency (EPA) for recovery of response costs incurred, and on behalf of the Department of the Interior (DOI) and the National Oceanic and Atmospheric Administration (NOAA) (DOI and NOAA, jointly, the Federal Natural Resources Trustees) for damages to natural resources, at the Site.

Under the proposed Settlement Agreement TOC Holdings Co., by its Chapter 7 bankruptcy trustee, will allow, as general unsecured claims, EPA's claim for CERCLA cost recovery in the amount of $19,256,160 (the EPA allowed claim) and the Federal Natural Resources Trustees' CERCLA claim for natural resources damages in the amount of $12,465,559 (the NRD allowed claim).

The publication of this notice opens a period for public comment on the proposed Settlement Agreement. Comments should be addressed to the Assistant Attorney General, Environment and Natural Resources Division, and should refer to In re TOC Holdings Co., D.J. Ref. No. 90-11-3-11829. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $3.00 (25 cents per page reproduction cost) payable to the United States Treasury.

Susan M. Akers,
Assistant Section Chief, Environmental Enforcement Section, Environment and Natural Resources Division.

[FR Doc. 2021-08685 Filed 4-26-21; 8:45 am]

BILLING CODE 4410-15-P